DEPARTMENT OF HEALTH AND HUMAN SERVICES

Health Care Financing Administration

42 CFR Parts 413, 489, and 498

[HCFA-1155-N]

Medicare Program; Open Town Hall Meeting to Discuss Implementation of Provider-Based Regulations; October 31, 2000

AGENCY: Health Care Financing Administration (HCFA), HHS.

ACTION: Notice of meeting.

SUMMARY: This notice announces a town hall meeting for all interested parties to discuss specific issues related to implementation of the provider-based status regulations published in a final rule on April 7, 2000 (65 FR 18434). Those regulations established requirements for facilities or organizations seeking provider-based status under Medicare.

DATES: This meeting is scheduled for October 31, 2000, from 9 a.m. until 4:30 P.M., E.S.T.

ADDRESSES: The meeting will be held in the HCFA Central Office Main Auditorium, 7500 Security Boulevard, Baltimore, Maryland 21244.

FOR FURTHER INFORMATION CONTACT: Beverly Parker at 410-786-5320.

SUPPLEMENTARY INFORMATION:

I. Background

On April 7, 2000, we published in the Federal Register (65 FR 18434), a final rule with comment period entitled “Prospective Payment System for Hospital Outpatient Services”. Among the regulatory provisions included were new §§ 413.24(d)(6) and 413.65 and revisions to §§ 489.24, 498.2, and 498.3. These regulations established requirements for facilities or organizations that seek provider-based status. The effective date of the provider-based regulations, as stated in the April 2000 rule, was October 10, 2000. On October 3, 2000, we published a notice in the Federal Register (65 FR 58919) that delayed the effective date of these provider-based regulations from October 10, 2000 to the first day of each provider's first cost reporting period beginning on or after January 10, 2001. In addition, we made a conforming change in new § 413.65(i)(2). In the October 3, 2000 notice, we explained that a major purpose of the delay was to allow time for clarification of administrative, procedural, and technical issues relating to implementation of the regulations.

We also stated our intent to host a town hall meeting to discuss specific aspects of the provider-based regulations. The subjects to be discussed will be the ways that a facility or organization can demonstrate that it serves the same patient population as the main provider (§ 413.65(d)(7)(i)), and the applicability of provisions on management contracts to certain on-campus hospital departments (§ 413.65(f)). We will also provide clarification of the administrative procedures that we will follow in making provider-based determinations. The purpose of the meeting is to solicit suggestions that will lead to more effective implementation of these regulations in their current form.

II. Format of Meeting

Following introductory remarks, we will begin the meeting with a brief overview of the application process that we are developing and plan to have in place before January 10, 2001. This overview will describe the procedures we will follow in making provider-based determinations, and identify those types of facilities or organizations for which no determinations are needed, as described on page 18506 of the April 7, 2000 regulations. We will then hold two separate, consecutive sessions. The first session will concern the ways that a facility or organization can demonstrate that it serves the same patient population as the main provider (§ 413.65(d)(7)(i)). The second session will focus on the applicability of provisions on management contracts to certain on-campus hospital departments (§ 413.65(f)). Each session will include a specified amount of time for a limited number of public presentations by participants.

III. Registration

Individuals may register to attend the meeting by contacting Ms. Sue Panchit, JW Associates, LLC, either by telephone at 301-495-9471, by mail, at 850 Sligo Avenue, Silver Spring, Maryland 20910, by fax, at 301-495-5989, or electronically at www.hcfa.gov, which includes a link to www.hcfa.gov/medlearn/event.htm. Please provide, as applicable, your name, title, firm name, address, telephone number, fax number, and electronic mailing address.

Requests to attend the meeting should be submitted as soon as possible, but must be received by Ms. Sue Panchit no later than October 24, 2000. We will notify persons who have been selected to attend. Participants who wish to make a presentation at the meeting are asked to contact Ms. Beverly Parker at 410-786-5320 or via E-mail at BParker@hcfa.gov as soon as possible. Requests to make a presentation must be received by Ms. Parker no later than October 17, 2000. Please identify the topic(s) for your presentation.

Due to time constraints, we may need to limit the number of individuals who make presentations and the time allowed for each presentation. We will notify participants who have been selected to make a presentation. We will assign presentation times before the meeting. While the meeting is open to the public, attendance is limited to the space available. On a general note, JW Associates, LLC, will confirm receipt of registrations and notify individuals as to whether their registration has been accepted.

We will accept written questions, comments, or other materials, before and during the meeting, or up to 3 days after the meeting. Address comments to: DHHS, HCFA, ATTN: Beverly Parker, Room C4-07-07, 7500 Security Boulevard, Baltimore, Maryland 21244-1850, Telephone Number: (410) 786-5320, Fax Number: (410) 786-0169, E-mail: BParker@hcfa.gov. Although there is no special format for the materials, we request that commenters be clear about the issue or aspect of the proposed process on which they have a question, comment, or suggestion.

Authority: Sections 1102 and 1871 of the Act (42 U.S.C. 1302 and 1395hh).

(Catalog of Federal Domestic Assistance Program No. 98.773, Medicare-Hospital Insurance; and Program No. 93.774, Medicare-Supplementary Medicare insurance Program)

Dated: October 10, 2000.
Michael M. Hash,
Acting Administrator, Health Care Financing Administration.

[FR Doc. 00-26489 Filed 10-13-00; 8:45 am]

BILLING CODE 4120-01-P